DEPARTMENT OF ENERGY

Federal Energy Regulatory Commission

[Docket No. CP01-360-000]

Tennessee Gas Pipeline Company; Notice of Application

May 14, 2001.

Take notice that on May 7, 2001, Tennessee Gas Pipeline Company (Tennessee), 1001 Louisiana, Houston, Texas 77002, filed in Docket No. CP01-360-000, an application pursuant to sections 7(b) and 7(c) of the Natural Gas Act (NGA), and the Regulations of the Federal Energy Regulatory Commission's requesting authorization for its proposed Dracut Expansion Project. In the proposal for the Dracut Expansion Project, Tennessee seeks to abandon approximately 11.92 miles of 16-inch pipeline, and requests a certificate of public convenience and necessity to construct, install and operate approximately 11.50 miles of 24-inch diameter replacement pipeline and 0.42 miles of 16-inch diameter replacement pipeline, all as more fully set forth in the application which is on file with the Commission and open to public inspection. This filing may be viewed on the web at http://www.ferc.fed.us/online/rims.htm [call (202) 208-2222 for assistance].

Tennessee states that the Project will increase Tennessee's capacity and flexibility on its system in the New England region, so that it can help meet the significant growth in the demand for natural gas services projected in this area of the country. Tennessee's current capacity from Dracut is 200 MMcfd on a firm year-round basis. Tennessee states that the proposed replacement and upgrade of facilities will increase its capacity from Dracut to 500 MMcfd on a firm year-round basis, with minimal environmental disruption and relatively modest facility construction.

The estimated cost for installations and removal of the Dracut Project facilities is approximately $36.4 million. Tennessee proposes to place the Dracut Expansion facilities in service by November 1, 2002. Tennessee requests that the Commission grant the requested authority by December 31, 2001. Tennessee states that it will charge transportation rates as currently set forth in its tariff for any service which utilizes the proposed facilities; that no new or rate schedules are being proposed; and that capacity created by the Dracut Expansion Project will be awarded in accordance with Tennessee's existing Gas Tariff.

Any questions regarding this application should be directed to Susan T. Halbach, Senior Counsel, P.O. Box 2511, Houston, Texas 77252 (713) 420-5751.

There are two ways to become involved in the Commission's review of this project. First, any person wishing to obtain legal status by becoming a party to the proceedings for this project should, on or before May 4, 2001, file with the Federal Energy Regulatory Commission, 888 First Street, NE., Washington, DC 20426, a motion to intervene in accordance with the requirements of the Commission's Rules of Practice and Procedure (18 CFR 385.214 and 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicants may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-12505 Filed 5-17-01; 8:45 am]

BILLING CODE 6717-01-M